DEPARTMENT OF THE INTERIOR

National Park Service

National Register of Historic Places; Notification of Pending Nominations

Nominations for the following properties being considered for listing in the National Register were received by the National Park Service before MA June, 3, 2000. Pursuant to § 60.13 of 36 CFR Part 60 written comments concerning the significance of these properties under the National Register criteria for evaluation may be forwarded to the National Register, National Park Service, 1849 C St. NW, NC400, Washington, DC 20240. Written comments should be submitted by June 28, 2000.

Carol D. Shull,
Keeper of the National Register.

COLORADO

Moffat County

Bromide Charcoal Kilns, Off Cty. Rd. 10, Greystone, 00000740

Park County

Como School, (Rural School Buildings in Colorado MPS) Spruce St., Como, 00000739

GEORGIA

Fulton County Martin Luther King, Jr. Historic District (Boundary Increase), Roughly bounded by Freedom Pkwy., John Wesley Dobbs Ave., Decatur St., Southern RR tracks, and I-75/85, Atlanta, 00000741

IDAHO

Fremont County Crabtree, Glen and Addie, Cabin, 3939 Cowan Rd., Island Park, 00000742

MARYLAND

Baltimore Independent City Cecil Apartments, 1123 N. Eutaw St., Baltimore, 00000743

One Charles Center, 100 N. Charles St., Baltimore, 00000745

Stieff Silver Company Factory, 800 Wyman Park Dr., Baltimore, 00000744

NEW YORK

Jefferson County

Trinity Episcopal Church and Parish House, (Historic Churches of the Episcopal Diocese of Central New York MPS) 227 Sherman St., Watertown, 00000747

Orange County

Old Town Cemetery and Palatine Church Site, Grand St., Newburgh, 00000746

Otsego County

Beardslee Farm, NY 80 at Cty Rd. 18, Pittsfield, 00000748

OHIO

Clark County Main Street Buildings, 6-14 E. Main St., Springfield, 00000749

Cuyahoga County

Lerner Building, 322-324 Euclid Ave., Cleveland, 00000750

TEXAS

Harris County

Link—Lee House, 3800 Montrose, Houston, 00000751

[FR Doc. 00-14815 Filed 6-12-00; 8:45 am]

BILLING CODE 4310-70-P